DEPARTMENT OF AGRICULTURE

Animal and Plant Health Inspection Service

7 CFR Parts 319 and 361

[Docket No. APHIS-2008-0071]

RIN 0579-AD47

Importation of Plants for Planting

AGENCY: Animal and Plant Health Inspection Service, USDA.

ACTION: Final rule.

SUMMARY: We are amending the regulations on importing plants for planting to add Turkey to the list of countries from which the importation of restricted articles of Chrysanthemum spp., Leucanthemella serotina, and Nipponanthemum nipponicum into the United States is prohibited due to the presence of white rust of Chrysanthemum; to require permits for the importation of any seed that is coated, pelleted, or embedded in a substrate that obscures visibility; to provide for an alternate additional declaration on phytosanitary certificates that accompany articles imported from a country in which potato cyst nematodes are known to occur; to provide conditions for the importation of Prunus spp. articles from Canada that address the presence of plum pox potyvirus in that country; and to provide for the importation of Dianthus spp. (carnations) from the Netherlands. We are also making other changes to update and clarify the regulations and to improve their effectiveness. These changes are necessary to relieve restrictions that appear unnecessary, to update existing provisions, and to make the regulations easier to understand and implement.

DATES: Effective January 15, 2015.

FOR FURTHER INFORMATION CONTACT: Ms. Heather Coady, Regulatory Policy Specialist, Plants for Planting Policy, PPQ, APHIS, 4700 River Road, Unit 133, Riverdale, MD 20737; (301) 851-2076.

SUPPLEMENTARY INFORMATION:

Background

The regulations in 7 CFR part 319 prohibit or restrict the importation of certain plants and plant products into the United States to prevent the introduction of quarantine plant pests. The regulations contained in “Subpart—Plants for Planting,” §§ 319.37 through 319.37-14 (referred to below as the regulations), restrict among other things, the importation of living plants, plant parts, and seeds for propagation or planting.

On February 12, 2013, we published in the Federal Register (78 FR 9851-9865, Docket No. APHIS-2008-0071) a proposed rule ¹ to amend various provisions of the regulations.

¹ To view the proposed rule, its supporting documents, or the comments that we received, go to http://www.regulations.gov/#!docketDetail;D=APHIS-2008-0071.

We solicited comments concerning our proposal for 60 days ending April 15, 2013. We received eight comments by that date. They were from the national plant protection organization (NPPO) of a foreign country, an organization representing wholesale exporters of plants for planting from a foreign country, a national organization that represents State departments of agriculture, a State department of agriculture, a national organization representing gardeners within the United States, and private citizens. The comments that we received are discussed below, by topic.

Comments Regarding “Bulb” and “Dormant Herbaceous Perennial”

Section 319.37-1 contains definitions of terms used in the regulations. Bulb is defined in that section as: “The portion of a plant commonly known as a bulb, bulbil, bulblet, corm, cormel, rhizome, tuber, or pip, and including fleshy roots or other underground fleshy growths, a unit of which produces an individual plant.”

In the proposed rule, we proposed to revise the definition of bulb. As we proposed to revise it, the definition would have been: “The storage organ of a plant that serves as the plant's sexual structure during dormancy. Examples include bulbs, bulbils, bulblets, corms, and cormels. For purposes of this subpart, a bulb remains a bulb until such time as environmental conditions induce it to produce shoots. It is then considered a plant.” We proposed this revision based on our belief that certain of the types of plant parts provided in the definition as examples of bulbs were actually better categorized as dormant herbaceous perennials.

For that reason, we also proposed to add a definition of dormant herbaceous perennial to the regulations. We proposed to define dormant herbaceous perennial in the following manner: “Except for bulbs, the portions of an herbaceous perennial that remain after the above-ground parts of the plant have died back to the earth after the growing season and the plant remains dormant. Examples include rhizomes, tubers, tuberous roots, pips, fleshy roots, divisions, and underground fleshy growths. For purposes of this subpart, dormant herbaceous perennials remain dormant herbaceous perennials until such time as environmental conditions induce them to sprout. They are then considered plants.”

Two commenters asked whether it was our intent to retroactively apply the term dormant herbaceous perennial to certain articles that are currently authorized importation into the United States as bulbs. If so, the commenters asked whether this change in nomenclature would have any impact on preclearance programs or port-of-first-arrival procedures for the articles. The commenters also expressed concern that adding a definition of dormant herbaceous perennial to the regulations could inadvertently adversely impact trade in bulbs.

Another commenter asked what our scientific basis was for proposing to classify tubers and pips as dormant herbaceous perennials. The commenter pointed out that tubers and pips are the storage organs for several species of plants that do not have above-ground parts. Conversely, the commenter pointed to several species of rhizomes that would not meet our proposed definition of dormant herbaceous perennial because they maintain above-ground parts during the plant's dormancy.

The same commenter also stated that several of the terms used in our proposed definitions of bulb and dormant herbaceous perennial, such as “divisions” and fleshy growths,” are not currently terms with clearly delineated meanings within the field of botany. Similarly, the commenter stated that most botanists would not consider a bulb to be a sexual structure.

Based on the issues identified and concerns raised by commenters, we have decided not to finalize our proposed revision to the definition of bulb or our proposed definition of dormant herbaceous perennial. While we maintain that the current definition of bulb should be revised, we will continue to dialogue with regulated entities and other stakeholders regarding the best manner to do so.

Comment Regarding Potato Cyst Nematode Prevalence in Canada

In § 319.37-5, paragraph (a) lists regions of the world in which potato cyst nematodes (PCN, Globodera rostochiensis (Woll.) Behrens and G. pallida (Stone) Behrens) are known to exist and places restrictions on the importation of restricted articles from those regions.

In our proposed rule, we proposed to revise and update the list. Among other revisions, we proposed to amend the manner in which the list refers to areas in Canada that are regulated for PCN. We pointed out that the list only contains two areas in Canada that the NPPO of Canada regulates for PCN, Newfoundland and a portion of the Municipality of Central Saanich in the Province of British Columbia; however, two other such areas exist, in Alberta and Quebec. For this reason, we proposed to amend the list to refer to all areas of Canada that are regulated by the NPPO of Canada for PCN. To further justify this amendment, we stated that the movement of soil within Canada has historically not been stringently regulated, and there is a significant possibility of future detections of PCN in other areas of Canada.

One commenter agreed with our proposed amendment and our rationale that there may be future detections of PCN in other areas within Canada, but disagreed with our assertion that the movement of soil in Canada has historically not been stringently regulated. The commenter pointed to several long-standing directives that the NPPO of Canada has issued that regulate the movement of soil in Canada.

We acknowledge that the NPPO of Canada has long placed restrictions on the movement of soil in Canada, and agree that the proposed rule should not have suggested otherwise. We note, however, that the commenter agreed that there is a possibility of future detections of PCN in Canada, and likewise agreed that this provides a sufficient rationale for our proposed amendment to the list. Therefore, based on this rationale, we are finalizing that amendment.

Importation of Restricted Articles of the Genera Chaenomeles, Cydonia, Malus, Prunus, Pyrus, and Vitis

At the time our proposed rule was issued, paragraph (b)(1) of § 319.37-5 contained requirements for the importation of restricted articles (except seeds) of Chaenomeles, Cydonia, Malus, Prunus, and Pyrus spp. from Belgium, Canada, France, Germany, Great Britain, and the Netherlands, as well as Vitis spp. restricted articles (except seeds) from Canada. It authorized the importation of these articles, provided that they are accompanied by a phytosanitary certificate with an additional declaration that the articles were grown in a nursery and found by the NPPO of the country in which they were grown to be free of certain plant diseases, or alternatively, with an additional declaration that those plant diseases do not occur in that country. Paragraph (b)(3) of § 319.37-5 listed the relevant plant diseases.

Paragraph (b)(2) of § 319.37-5 was meant to complement paragraph (b)(1), and contained what were intended to be conditions for the importation of budwood of certain Prunus species that are susceptible to plum pox potyvirus from Belgium, France, Germany, Great Britain, or the Netherlands.

Paragraph (j)(1) of § 319.37-5 contained conditions for the importation of seed of Prunus spp. that are susceptible to plum pox potyvirus from Belgium, France, Germany, Great Britain, or the Netherlands. Paragraph (j)(2) of § 319.37-5 complemented paragraph (j)(1) and provided additional conditions for the importation of seed of these Prunus spp. from all other countries, unless plum pox potyvirus is known to exist in that country.

In our proposed rule, we proposed to revise and consolidate paragraphs (b) and (j). We proposed to do so primarily in order to make the scope and intent of these paragraphs clearer, but also in order to add provisions regarding grafted plants to paragraph (b)(1), in order to update the list of plant diseases, and in order to reflect the detection of plum pox potyvirus in Canada, Argentina, Chile, and Japan.

(We also proposed certain harmonizing changes to provisions in § 319.37-2 and § 319.37-7 that referred to these paragraphs of § 319.37-5. We did so in order to ensure the internal consistency of the regulations.)

Of the revisions to paragraphs (b) and (j) of § 319.37-5 that we proposed, we are finalizing those that pertained to the importation of Prunus spp. seed into the United States without modification. With regard to the other proposed revisions, we are finalizing them with several modifications. We discuss the nature of and reasons for these modifications in the following paragraphs.

A commenter agreed with the majority of the revisions to the list of plant diseases that we proposed. However, the commenter asked us to remove the following plant diseases from the list: Grapevine corky bark “Legno riccio” agent, grapevine leaf roll viruses, grapevine stem pitting agent, and grapevine yellows disease bacterium. The commenter stated that these diseases are widely distributed in the United States and are not under official control by the Animal and Plant Health Inspection Service (APHIS) of the United States Department of Agriculture (USDA).

In response to this comment, USDA's Agricultural Research Service reviewed the distribution of these diseases within the United States, and agreed with the commenter that they are in fact widely distributed. Moreover, the commenter is correct that none of these diseases are under official control by APHIS. Therefore, we are removing the agents from the list. We are finalizing the other revisions to the list that we proposed.

We are finalizing our proposed revisions to the requirements for the importation of restricted articles (except seeds) of Chaenomeles, Cydonia, Malus, Prunus, and Pyrus spp. from Belgium, Canada, France, Germany, Great Britain, and the Netherlands, as well as Vitis spp. from Canada, with several modifications. We have also modified our proposed revisions to the requirements for the importation of budwood of certain Prunus species that are susceptible to plum pox potyvirus from Belgium, Canada, France, Germany, Great Britain, or the Netherlands. We are doing so because of a notice that we published in the Federal Register on April 18, 2013 (78 FR 23209-23219, Docket No. APHIS-2011-0072). In that notice, pursuant to paragraph (b) of § 319.37-2(a), we added Chaenomeles and Cydonia spp. plants for planting, except seed, from all countries other than Canada; Malus spp. plants for planting, except seed, from all countries other than Belgium, Canada, France, Germany, or the Netherlands; Prunus spp. plants for planting, except seed, from all countries other than Canada and the Netherlands; and Pyrus spp. plants for planting, except seed, from all countries other than Canada to a list of taxa whose importation into the United States is not authorized pending pest risk analysis (referred to below as the NAPPRA list).

The revisions that we proposed to the requirements in paragraph (b)(1) of § 319.37-5 regarding the importation of restricted articles of Chaenomeles, Cydonia, Malus, Prunus, Pyrus, and Vitis spp. predated the issuance of the notice, and therefore need to be revised in light of it. Primarily, we wish to ensure that paragraph (b)(1) could not be construed to authorize the importation of Chaenomeles, Cydonia, Malus, Prunus, Pyrus, or Vitis spp. restricted articles from a country that was added to the NAPPRA list in the notice.

Accordingly, in this final rule, paragraph (b)(1)(i) of § 319.37-5 contains conditions for the importation of Chaenomeles spp. and Cydonia spp. restricted articles (except seeds) from Canada. Paragraph (b)(1)(ii) of § 319.37-5 contains conditions for the importation of Malus spp. restricted articles (except seeds) from Belgium, Canada, France, Germany, or the Netherlands. Paragraph (b)(1)(iii) of § 319.37-5 contains conditions for the importation of Prunus spp. restricted articles (except seeds) not susceptible to plum pox potyvirus from Canada or the Netherlands. Paragraph (b)(1)(iv) of § 319.37-5 contains conditions for the importation of Pyrus spp. restricted articles (except seeds) from Canada. Finally, paragraph (b)(1)(v) of § 319.37-5 contains conditions for the importation of Vitis spp. restricted articles (except seeds) from Canada.

These paragraphs retain the provisions that we would have added to paragraph (b)(1) of § 319.37-5 regarding grafted articles, or articles in which plant parts from one plant are inserted into those of another plant for purposes of propagation, and are, in other respects, substantially similar in content to our proposed revisions to paragraph (b)(1) of § 319.37-5. However, we believe that, by dividing paragraph (b)(1) into commodity-specific subparagraphs, we will provide importers and other interested parties with greater clarity regarding our importation requirements for a given species.

The additions to the NAPPRA list in the notice also led us to modify our proposed revisions to paragraph (b)(2) of § 319.37-5. In this final rule, paragraph (b)(2) of § 319.37-5 now only contains conditions for the importation of budwood of Prunus spp. susceptible to plum pox potyvirus from the Netherlands.

The additions to the NAPPRA list in the notice required us to modify some of our proposed harmonizing changes to §§ 319.37-2 and 319.37-7. Within § 319.37-7, paragraph (a)(3) contains a table requiring certain restricted articles (excluding seeds) from certain countries to be grown under post-entry quarantine conditions in order for the articles to be imported into the United States. The table had contained entries requiring post-entry quarantine for Chaenomeles, Cydonia, and Pyrus spp. restricted articles that meet the conditions for importation in § 319.37-5(b).

However, as a result of the changes to the NAPPRA list, these species of articles may only be imported into the United States from Canada, and, because of long-standing operational practices, we do not require post-entry quarantine for restricted articles from Canada. As a result, we are removing the entries for Chaenomeles, Cydonia, and Pyrus spp. restricted articles from the table.

In our proposed rule, the entries for Chaenomeles and Cydonia spp. articles in a table in § 319.37-2 would have prohibited the importation of any articles of those species that did not meet the conditions for importation in § 319.37-5(b) and § 319.37-7. Because we have removed the entries for Chaenomeles and Cydonia spp. restricted articles from § 319.37-7, the entries for those species in the table in § 319.37-2 do not refer to § 319.37-7.

In our proposed rule, our proposed revision to the entry in the table in § 319.37-7 for Prunus spp. would have required post-entry quarantine for Prunus spp. restricted articles imported from all countries listed in § 319.37-5(b) except Canada. In this final rule, as a result of the NAPPRA notice, it requires post-entry quarantine for all Prunus spp. restricted articles imported into the United States from the Netherlands.

Finally, in the course of reviewing our proposed revisions to § 319.37-5 in light of the NAPPRA notice, we realized that both proposed paragraph (b)(4)(i) and paragraph (b)(4)(ii) of § 319.37-5 could be construed to contain provisions regarding the importation of seed of Prunus spp. susceptible to plum pox (=Sharka) potyvirus from Belgium, Canada, France, Germany, Great Britain, and the Netherlands. However, we only intended proposed paragraph (b)(4)(i) to contain such provisions. As a result, we have made editorial revisions to paragraph (b)(4)(ii) to clarify its scope.

Comment Regarding the Importation of Dianthus spp. From the Netherlands

In our proposed rule, we proposed to authorize the importation of Dianthus spp. (carnations) from the Netherlands, subject to certain conditions proposed to us by the NPPO of the Netherlands.

One commenter expressed general concern that the importation of Dianthus spp. from the Netherlands could result in the introduction of plant pests into the United States, but did not cite any particular plant pest risks or scientific evidence to elaborate on this general concern.

As we mentioned in the proposed rule, we evaluated the conditions for the importation of Dianthus spp. from the Netherlands that the NPPO of the Netherlands proposed, and determined that they address the plant pest risk associated with such importation.

Controlled Import Permits

In the proposed rule, we proposed to amend § 319.37-1 to add a definition of Administrator to that section. However, on May 2, 2013, we published in the Federal Register a final rule (78 FR 25565-25572, Docket No. APHIS-2008-0055) that amended the regulations to establish the controlled import permit as a single type of authorization for the importation into the United States of otherwise prohibited or restricted plants for planting for experimental, therapeutic, or developmental purposes. Among other changes, that final rule added an identical definition of Administrator to the one we proposed to add to § 319.37-1. Accordingly, since a definition of Administrator has already been added to the regulations, and this definition mirrors the one we proposed, we do not need to finalize our proposed definition.

Consolidation of Permits

In the proposed rule, we proposed a number of revisions to § 319.37-3 of the regulations. Among other proposed revisions to that section, we proposed to revise paragraph (d) to incorporate nonsubstantive editorial changes that updated and simplified its language. However, in a final rule published in the Federal Register on April 10, 2014 (79 FR 19805-19812, Docket No. APHIS-2011-0085), we simplified the language in paragraph (d) in a manner which obviates the need for our proposed revisions. Accordingly, we are not finalizing these proposed revisions.

Therefore, for the reasons given in the proposed rule and in this document, we are adopting the proposed rule as a final rule, with the changes discussed in this document.

Executive Order 12866 and Regulatory Flexibility Act

This rule has been determined to be not significant for the purposes of Executive Order 12866 and, therefore, has not been reviewed by the Office of Management and Budget.

In accordance with the Regulatory Flexibility Act, we have analyzed the potential economic effects of this action on small entities. The analysis identifies importers and wholesale merchants of flowers, nursery stock, and florists' supplies, as well as wholesale merchants of fresh fruits and vegetables, as the small entities most likely to be affected by this action. The analysis considers the losses that may occur due to relaxing restrictions on the importation of certain plants for planting into the United States, while strengthening or expanding the scope of certain other restrictions. The analysis expects such losses to be relatively minor and anticipates that they would not substantively adversely impact small entities.

Under these circumstances, the Administrator of the Animal and Plant Health Inspection Service has determined that this action would not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.). The information collection or recordkeeping requirements included in the regulations amended by this rule have been approved by the Office of Management and Budget (OMB) under OMB control number 0579-0049.

E-Government Act Compliance

The Animal and Plant Health Inspection Service is committed to compliance with the E-Government Act to promote the use of the Internet and other information technologies, to provide increased opportunities for citizen access to Government information and services, and for other purposes. For information pertinent to E-Government Act compliance related to this rule, please contact Ms. Kimberly Hardy, APHIS' Information Management Specialist, at (301) 851-2727.

List of Subjects

7 CFR Part 319

Coffee, Cotton, Fruits, Imports, Logs, Nursery stock, Plant diseases and pests, Quarantine, Reporting and recordkeeping requirements, Rice, Vegetables.

7 CFR Part 361

Agricultural commodities, Imports, Labeling, Quarantine, Reporting and recordkeeping requirements, Seeds, Vegetables, Weeds.

Accordingly, we are amending 7 CFR parts 319 and 361 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

§ 319.37 [Amended]

2. In § 319.37, in paragraph (b), the final sentence is amended by removing the words “and the availability of treatment facilities for the article” and adding in their place the words “the availability of treatment facilities for the article, and any other factors pertaining to the risk that the article may present to plants, plant parts, or plant products within the United States that he or she considers necessary”.

3. Section 319.37-1 is amended as follows:

a. In the definition of from, in paragraph (b), by adding the words “or an article whose importation into the United States is not authorized pending pest risk analysis” after the words “prohibited article”, and by removing the words “(c), (d), (e), (f), (g), (h), (i), (j)” and adding the words “(b)(2), (b)(3), (b)(4), (c), (d), (e), (f), (g), (h), (i)” in their place;

b. In the definition of from by redesignating paragraphs (a) through (d) as paragraphs (1) through (4), respectively; and

c. By revising the definition of phytosanitary certificate of inspection.

The revision reads as follows:

§ 319.37-1 Definitions.

* * * * *

Phytosanitary certificate of inspection. A document, including electronic versions, that is related to a restricted article and is issued not more than 15 days prior to shipment of the restricted article from the country in which it was grown and that:

(1) Is patterned after the model certificate of the International Plant Protection Convention, a multilateral convention on plant protection under the authority of the Food and Agriculture Organization of the United States (FAO);

(2) Is issued by an official of a foreign national plant protection organization in one of the five official languages of the FAO;

(3) Is addressed to the national plant protection organization of the United States (Animal and Plant Health Inspection Service);

(4) Describes the shipment;

(5) Certifies the place of origin for all contents of the shipment;

(6) Certifies that the shipment has been inspected and/or tested according to appropriate official procedures and is considered free from quarantine pests of the United States;

(7) Contains any additional declarations required by this subpart; and

(8) Certifies that the shipment conforms with the phytosanitary requirements of the United States and is considered eligible for importation pursuant to the laws and regulations of the United States.

* * * * *

4. In § 319.37-2, in paragraph (a), the table is amended as follows:

a. By removing the entries for “Arikuryoba spp. (arikury palm)”, “Chrysalidocarpus spp. (butterfly palm)”, “Mahoberberis spp. (plants of all species and horticultural varieties not designated as resistant to black stem rust in accordance with § 301.38-1 of this chapter)”, “Mahoberberis spp. destined to an eradication State listed in § 301.38-2(a) of this chapter (plants of all species and horticultural varieties designated as resistant to black stem rust in accordance with § 301.38-1 of this chapter)”, “Mahoberberis spp. seed”, “Mahonia spp. (mahonia) (plants of all species and horticultural varieties not designated as resistant to black stem rust in accordance with § 301.38-1 of this chapter)”, “Mahonia spp. (mahonia) destined to an eradication State listed in § 301.38-2(a) of this chapter (plants of all species and horticultural varieties designated as resistant to black stem rust in accordance with § 301.38-1 of this chapter)”, “Mahonia spp. seed”, and “Neodypsis spp. (palm)”;

b. In the entry for “Acer spp. (maple) (except Acer palmatum and Acer japonicum meeting the conditions for importation in § 319.37-5(m)”, by removing the words “in § 319.37-5(m)” and adding the words “in §§ 319.37-5 or 319.37-7” in their place;

c. In the entry for “Berberis spp. (barberry) (plants of all species and horticultural varieties not designated as resistant to black stem rust in accordance with § 301.38-1 of this chapter)”, by removing the word “(barberry)” and adding the words “(barberry, includes Mahoberberis and Mahonia spp.)” in its place;

d. In the entry for “Berberis spp. (barberry) destined to an eradication State listed in § 301.38-2a of this chapter (plants of all species and horticultural varieties designated as resistant to black stem rust in accordance with § 301.38-1 of this chapter),” by removing the word “(barberry)” and adding the words “(barberry, includes Mahoberberis and Mahonia spp.)” in its place;

e. In the entry for “Berberis spp. (barberry) seed”, by removing the word “(barberry)” and adding the words “(barberry, includes Mahoberberis and Mahonia spp.)” in its place;

f. By revising the entry for “Chaenomeles spp. (flowering quince) not meeting the conditions for importation in § 319.37-5(b)”;

g. By revising the entry for “Chrysanthemum, spp. (chrysanthemum, includes Dendranthema spp.)”;

h. By adding an entry for “Dypsis spp. (butterfly palm)” in alphabetical order;

i. By revising the entry for “Leucanthemella serotina”;

j. In the entry for “Malus spp. (apple, crabapple) not meeting the conditions for importation in § 319.37-5(b)”, by removing the words “in § 319.37-5(b)” and adding the words “in §§ 319.37-5(b) and 319.37-7” in their place;

k. By revising the entry for “Nipponanthemum nipponicum”;

l. By removing the entry for “Prunus spp. (almond, apricot, cherry, cherry laurel, English laurel, nectarine, peach, plum, prune) not meeting the conditions for importation in § 319.37-5(b)” and adding a new entry for “Prunus spp. not meeting the conditions for importation in § 319.37-5(b)” in its place;

m. By removing the entry for “Prunus spp. seed only (almond, apricot, nectarine, peach, plum, and prune, but not species in subgenus Cerasus) not meeting the conditions for importation in § 319.37-5(j)” and adding a new entry for “Prunus spp. seed only not meeting the conditions for importation in § 319.37-5(b)” in its place;

n. In the entry for “Salix spp. (willow)”, by removing the words “Erwinia salicis (Day) Chester” and adding the words “Brenneria salicis (Day) Hauben et al., syn. Erwinia salicis (Day) Chester” in their place; and

o. By adding an entry for “Syagrus schizophylla (Mart.) Glassman (arikury palm)” in alphabetical order.

The additions and revisions read as follows:

§ 319.37-2 Prohibited articles.

(a) * * *

Prohibited article (includes seeds only if specifically mentioned) | Foreign places from which prohibited | Quarantine pests existing in the places named and capable of being transported with the prohibited article
* * * * * * *
Chaenomeles spp. (flowering quince) not meeting the conditions for importation in §§ 319.37-5(b) | All | A diversity of diseases including but not limited to those listed for Chaenomeles in § 319.37-5(b).
Chrysanthemum spp. (chrysanthemum, includes Dendranthema spp.) not meeting the conditions for importation in §§ 319.37-5(c) and 319.37-7 | All | Puccinia horiana P. Henn. (white rust of chrysanthemum).
* * * * * * *
Dypsis spp. (butterfly palm) | All | A diversity of diseases including but not limited to: Lethal yellowing disease; Cadang-cadang disease.
* * * * * * *
Leucanthemella serotina not meeting the conditions for importation in §§ 319.37-5(c) and 319.37-7 | All | Puccinia horiana P. Henn. (white rust of chrysanthemum).
* * * * * * *
Nipponanthemum nipponicum not meeting the conditions for importation in §§ 319.37-5(c) and 319.37-7 | All | Puccinia horiana P. Henn. (white rust of chrysanthemum).
* * * * * * *
Prunus spp. not meeting the conditions for importation in § 319.37-5(b) | All | A diversity of diseases including but not limited to those listed for Prunus in § 319.37-5(b).
Prunus spp. seed only not meeting the conditions for importation in § 319.37-5(b) | All | Plum pox (=Sharka) potyvirus.
* * * * * * *
Syagrus schizophylla (Mart.) Glassman (arikury palm) | All | A diversity of diseases including but not limited to: Lethal yellowing disease; Cadang-cadang disease.
* * * * * * *

* * * * *

5. Section 319.37-3 is amended as follows:

a. By revising paragraphs (a)(1) through (11);

b. By removing paragraphs (a)(12) through (19); and

c. By adding paragraph (b).

The revisions and addition read as follows:

§ 319.37-3 Permits.

(a) * * *

(1) Lots of 13 or more articles (other than seeds of herbaceous plants, precleared bulbs of a taxon approved by APHIS for preclearance, or sterile cultures of orchid plants) from any country or locality except Canada;

(2) Seeds of non-herbaceous plants, such as trees and shrubs, from any country or locality except Canada;

(3) Articles subject to the requirements of § 319.37-5;

(4) Articles subject to the postentry quarantine conditions of § 319.37-7;

(5) Small lots of seed imported in accordance with § 319.37-4(d) of this subpart;

(6) Articles subject to treatment and other requirements of § 319.37-6;

(7) Seed of herbaceous plants for planting that is coated, pelleted, or embedded in a substrate that obscures visibility;

(8) Articles (except seeds) of Malus spp. (apple, crabapple), Pyrus spp. (pear), Prunus spp., Cydonia spp. (quince), Chaenomeles spp. (flowering quince), Rubus spp. (cloudberry, blackberry, boysenberry, dewberry, loganberry, raspberry), and Vitis spp. (grape) from Canada;

(9) Articles (except seeds) of Fraxinus spp. (ash) from counties or municipal regional counties in Canada that are not regulated for emerald ash borer (EAB) but that are within an EAB-regulated Province or Territory and are not prohibited under § 317.37-2;

(10) Articles (except seeds) of Pinus spp. from Canada; and

(11) Solanum tuberosum true seed from New Zealand and the X region of Chile (that area of Chile between 39° and 44° South latitude—see § 317.37-5(o));

(b) An application for a written permit should be submitted to the Plant Protection and Quarantine Programs (Animal and Plant Health Inspection Service, Plant Protection and Quarantine, 4700 River Road Unit 136, Riverdale, MD 20737-1236) at least 30 days prior to the arrival of the article at the port of entry. The completed application must contain the following information:

(1) Name, address, and telephone number of the importer;

(2) Approximate quantity and kinds (botanical designations) of articles intended to be imported;

(3) Country(ies) or locality(ies) where grown;

(4) Intended United States port of entry;

(5) Means of transportation, e.g., mail, airmail, express, air express, freight, airfreight, or baggage; and

(6) Expected date of arrival.

* * * * *

6. Section 319.37-4 is amended as follows:

a. By revising paragraph (a) introductory text;

b. In paragraph (a)(4), by removing the word “Bulbs” and adding the words “Small packages of bulbs offered to travelers returning” in its place, and by adding the word “within” before the words “6 weeks after the issuance”; and

c. In paragraph (b), by removing the words “may be sampled and inspected” and adding the words “must be presented for inspection” in their place.

The revision reads as follows:

§ 319.37-4 Inspection, treatment, and phytosanitary certificates of inspection.

(a) Phytosanitary certificates of inspection. Any restricted article offered for importation into the United States must be accompanied by a phytosanitary certificate, unless the article is explicitly exempted from this requirement in the paragraphs below. The phytosanitary certificate must identify the genus of the article it accompanies. When the regulations in this subpart place restrictions on individual species or cultivars within a genus, the phytosanitary certificate must also identify the species or cultivar of the article it accompanies. If the plant is grafted, budded, or otherwise contains interpolated plant parts, the phytosanitary certificate must list the identity of any plant parts (e.g., scion, rootstock, or interstem) that belong to restricted taxa to the lowest regulated taxon, e.g., genus, species, or cultivar. Otherwise, identification of the species is strongly preferred, but not required. Intergeneric and interspecific hybrids must be designated by placing the multiplication sign “x” between the names of the parent taxa. If the hybrid is named, the multiplication sign may instead be placed before the name of an intergeneric hybrid or before the epithet in the name of an interspecific hybrid. Phytosanitary certificates are not required to accompany the following restricted articles:

* * * * *

7. Section 319.37-5 is amended as follows:

a. By revising paragraphs (a), (b), and (c);

b. In paragraph (d), by adding the words “or the Netherlands” after the words “Great Britain” each time they occur;

c. By removing and reserving paragraph (j);

d. In paragraph (k), by removing the word “Feijoa” and adding the words “Acca sellowiana (O. Berg) Burret” in its place;

e. In paragraph (m), by adding the words “, and unless the article is subject to the postentry quarantine requirements of § 319.37-7(a)” at the end of the sentence; and

f. In paragraph (v)(4)(iv), by removing the words “to the plants”.

The revisions read as follows:

§ 319.37-5 Special foreign inspection and certification requirements.

(a) Any restricted article (except seeds, unrooted cuttings, and articles declared solely for food, analytical, or manufacturing purposes) from Albania, Algeria, Argentina, Armenia, Australia, Austria, Azerbaijan, Azores, Belarus, Belgium, Bolivia, Bulgaria, Canada (all areas regulated by the national plant protection organization of Canada for potato cyst nematodes), Channel Islands, Chile, Columbia, Costa Rica, Crete, Croatia, Cyprus, Czech Republic, Denmark (including Faeroe Islands), Ecuador, Egypt, Estonia, Falkland Islands, Finland, France, Georgia, Germany, Great Britain, Greece, Guernsey, Hungary, Iceland, India, Indonesia, Ireland, Italy, Japan, Jersey, Jordan, Kazakhstan, Kyrgyzstan, Latvia, Lebanon, Libya, Liechtenstein, Lithuania, Luxembourg, Malta, Mexico, Republic of Moldova, Morocco, the Netherlands, New Zealand, Northern Ireland, Norway, Pakistan, Panama, Peru, the Philippines, Poland, Portugal (including Madeira), Romania, Russian Federation, Serbia and Montenegro, Sierra Leone, Slovakia, Slovenia, South Africa, Spain (including Canary Islands and Mallorca), Sri Lanka, Sweden, Switzerland, Tajikistan, Tunisia, Turkey, Turkmenistan, Ukraine, Uzbekistan, and Venezuela must be accompanied by a phytosanitary certificate of inspection with an additional declaration either:

(1) That the article was grown on land or in a substrate which has been microscopically inspected by the national plant protection organization of the country in which it was grown within 12 months preceding issuance of the certificate and found free from potato cyst nematodes, Globodera rostochiensis (Woll.) Behrens and G. pallida (Stone) Behrens; or

(2) That the article has been grown within a secure environment in a production area that is free of potato cyst nematodes, in a soilless growing medium, or in vitro, and has never been grown in soil nor come in contact with soil.

(b)(1)(i) Restricted articles (except seeds) of Chaenomeles spp. (flowering quince) or Cydonia spp. (quince) from Canada, at the time of arrival at the port of first arrival in the United States, must be accompanied by a phytosanitary certificate that contains an additional declaration that the article was grown in a nursery in Canada and that the article was found by the national plant protection organization of Canada to be free of the injurious plant pathogens listed in paragraphs (b)(5)(i), (ii), (iv), (xviii), (xix), (xx), and (xxi) of this section. The determination by the national plant protection organization that the article is free of these pathogens will be based on visual examination and indexing of the parent stock of the article and inspection of the nursery where the restricted article is grown to determine that the nursery is free of the specified pathogens. An additional declaration on the phytosanitary certificate of inspection by the national plant protection organization that a pathogen does not occur in Canada may be used in lieu of visual examination and indexing of the parent stock for that pathogen and inspection of the nursery. Finally, for articles containing more than one plant part (e.g., grafted or budded plants), if the scion, interstem, rootstock, or any other plant part of the finished plant that is offered for importation belongs to a taxon listed within this paragraph as a regulated taxon, the additional declaration must address the quarantine pests and related restrictions associated with that taxon. The additional declaration must list all plant parts of regulated taxa that have been incorporated into the finished plant.

(ii) Restricted articles (except seeds) of Malus spp. (apple, crabapple) from Belgium, Canada, France, Germany, or the Netherlands, at the time of arrival at the port of first arrival in the United States, must be accompanied by a phytosanitary certificate that contains an additional declaration that the article was grown in a nursery in Belgium, Canada, France, Germany, or the Netherlands, and that the article was found by the national plant protection organization of the country in which it was grown to be free of the injurious plant pathogens listed in paragraphs (b)(5)(i), (ii), (iii), (vi), (vii), (viii), (xxii), (xxiii), (xl), (xli), (xlii), and (xliii) of this section. The determination by the national plant protection organization that the article is free of these pathogens will be based on visual examination and indexing of the parent stock of the article and inspection of the nursery where the restricted article is grown to determine that the nursery is free of the specified pathogens. An additional declaration on the phytosanitary certificate of inspection by the national plant protection organization that a pathogen does not occur in the country in which the article is grown may be used in lieu of visual examination and indexing of the parent stock for that pathogen and inspection of the nursery. Finally, for articles containing more than one plant part (e.g., grafted or budded plants), if the scion, interstem, rootstock, or any other plant part of the finished plant that is offered for importation belongs to a taxon listed within this paragraph as a regulated taxon, the additional declaration must address the quarantine pests and related restrictions associated with that taxon. The additional declaration must list all plant parts of regulated taxa that have been incorporated into the finished plant.

(iii) Restricted articles (except seeds) of Prunus spp. (almond, apricot, cherry, cherry laurel, English laurel, nectarine, peach, plum, prune) not susceptible to plum pox (=Sharka) potyvirus (P. avium, P. cerasus, P. effusa, P. laurocerasus, P. mahaleb, P. padus, P. sargentii, P. serotina, P. serrula, P. serrulata, P. subhirtella, P. yedoensis, and P. virginiana) from Canada or the Netherlands, at the time of arrival at the port of first arrival in the United States, must be accompanied by a phytosanitary certificate that contains an additional declaration that the article was grown in a nursery in Canada or the Netherlands and that the article was found by the national plant protection organization of the country in which it was grown to be free of the injurious plant pathogens listed in paragraphs (b)(5)(i), (x) through (xvii), (xxii), and (xliii) of this section. The determination by the national plant protection organization that the article is free of these pathogens will be based on visual examination and indexing of the parent stock of the article and inspection of the nursery where the restricted article is grown to determine that the nursery is free of the specified pathogens. An additional declaration on the phytosanitary certificate of inspection by the national plant protection organization that a pathogen does not occur in the country in which the article is grown may be used in lieu of visual examination and indexing of the parent stock for that pathogen and inspection of the nursery. Finally, for articles containing more than one plant part (e.g., grafted or budded plants), if the scion, interstem, rootstock, or any other plant part of the finished plant that is offered for importation belongs to a taxon listed within this paragraph as a regulated taxon, the additional declaration must address the quarantine pests and related restrictions associated with that taxon. The additional declaration must list all plant parts of regulated taxa that have been incorporated into the finished plant.

(iv) Restricted articles (except seeds) of Pyrus spp. (pear) from Canada, at the time of arrival at the port of first arrival in the United States, must be accompanied by a phytosanitary certificate that contains an additional declaration that the article was grown in a nursery in Canada and that the article was found by the national plant protection organization of Canada to be free of the injurious plant pathogens listed in paragraphs (b)(5)(i), (ii), (iv), (v), (xviii), (xix), (xx), (xliii), and (xliv) of this section. The determination by the national plant protection organization that the article is free of these pathogens will be based on visual examination and indexing of the parent stock of the article and inspection of the nursery where the restricted article is grown to determine that the nursery is free of the specified pathogens. An additional declaration on the phytosanitary certificate of inspection by the national plant protection organization that a pathogen does not occur in Canada may be used in lieu of visual examination and indexing of the parent stock for that pathogen and inspection of the nursery. Finally, for articles containing more than one plant part (e.g., grafted or budded plants), if the scion, interstem, rootstock, or any other plant part of the finished plant that is offered for importation belongs to a taxon listed within this paragraph as a regulated taxon, the additional declaration must address the quarantine pests and related restrictions associated with that taxon. The additional declaration must list all plant parts of regulated taxa that have been incorporated into the finished plant.

(v) Restricted articles (except seeds) of Vitis spp. (grape) from Canada, at the time of arrival at the port of first arrival in the United States, must be accompanied by a phytosanitary certificate that contains an additional declaration that the article was grown in a nursery in Canada and that the article was found by the national plant protection organization of Canada to be free of the injurious plant pathogens listed in paragraphs (b)(5)(xiv) through (xvii) and (xxiv) through (xxxix) of this section. The determination by the national plant protection organization that the article is free of these pathogens will be based on visual examination and indexing of the parent stock of the article and inspection of the nursery where the restricted article is grown to determine that the nursery is free of the specified pathogens. An additional declaration on the phytosanitary certificate of inspection by the national plant protection organization that a pathogen does not occur in Canada may be used in lieu of visual examination and indexing of the parent stock for that pathogen and inspection of the nursery. Finally, for articles containing more than one plant part (e.g., grafted or budded plants), if the scion, interstem, rootstock, or any other plant part of the finished plant that is offered for importation belongs to a taxon listed within this paragraph as a regulated taxon, the additional declaration must address the quarantine pests and related restrictions associated with that taxon. The additional declaration must list all plant parts of regulated taxa that have been incorporated into the finished plant.

(2) Budwood of Prunus spp. susceptible to plum pox (=Sharka) potyvirus (species other than P. avium, P. cerasus, P. effusa, P. laurocerasus, P. mahaleb, P. padus, P. sargentii, P. serotina, P. serrula, P. serrulata, P. subhirtella, P. yedoensis, and P. virginiana) and grown in the Netherlands may be imported into the United States only if it is accompanied by a phytosanitary certificate with an additional declaration that the original parent stock (nuclear stock) has been indexed and found free of pathogens in paragraphs (b)(5)(i), (ix) through (xvii), (xxii), (xliii), and (xliv) of this section by the appropriate national fruit tree certification program, and only if the original parent stock from which the budwood is taken is produced within a secure, enclosed, APHIS-approved pest-exclusionary facility within a national plant protection organization-operated or -approved nuclear stock program where the parent stock is maintained in a pathogen-free state.

(3) Restricted articles, except seeds, of Prunus spp. susceptible to plum pox (=Sharka) potyvirus (species other than P. avium, P. cerasus, P. effusa, P. laurocerasus, P. mahaleb, P. padus, P. sargentii, P. serotina, P. serrula, P. serrulata, P. subhirtella, P. yedoensis, and P. virginiana) from Canada must be accompanied by a phytosanitary certificate that contains an additional declaration that the article was grown in a nursery in Canada, that the article was found by the national plant protection organization of Canada to be free of the injurious plant pathogens listed in paragraphs (b)(5)(i), (ix) through (xvii), (xxii), (xliii), and (xliv) of this section, and that the article was grown in an area that has been surveyed and found free of plum pox (=Sharka) potyvirus according to a surveying protocol mutually agreed upon by APHIS and the national plant protection organization of Canada. The determination by the national plant protection organization of Canada that the article is free of these pathogens will be based on visual examination and indexing of the parent stock of the article and inspection of the nursery where the restricted article is grown to determine that the nursery is free of the specified pathogens. An additional declaration on the phytosanitary certificate of inspection by the national plant protection organization of Canada that a pathogen does not occur in Canada may be used in lieu of visual examination and indexing of the parent stock for that pathogen and inspection of the nursery. Finally, if any part of the article is not from Canada, but rather from a third country, that article must meet the entry requirements of this subpart as if the article had been directly imported into the United States from that third country.

(4)(i) Seeds of Prunus spp. susceptible to plum pox (=Sharka) potyvirus (species other than P. avium, P. cerasus, P. effusa, P. laurocerasus, P. mahaleb, P. padus, P. sargentii, P. serotina, P. serrula, P. serrulata, P. subhirtella, P. yedoensis, and P. virginiana) from Belgium, Canada, France, Germany, Great Britain, or the Netherlands shall, at the time of arrival at the port of first arrival at the United States, be accompanied by a phytosanitary certificate of inspection containing accurate additional declarations that:

(A) The seeds are from parent stock grown in a nursery in Belgium, Canada, France, Germany, Great Britain, or the Netherlands that is free of plum pox (=Sharka) potyvirus; and

(B) The seeds have been found by the national plant protection organization of the country in which they are produced to be free of plum pox (=Sharka) potyvirus based on the testing of parent stock by visual examination and indexing.

(ii) Seeds of Prunus spp. susceptible to plum pox (=Sharka) potyvirus (species other than P. avium, P. cerasus, P. effusa, P. laurocerasus, P. mahaleb, P. padus, P. sargentii, P. serotina, P. serrula, P. serrulata, P. subhirtella, P. yedoensis, and P. virginiana) from all countries except for the countries of Europe, Argentina, Canada, Chile, Cyprus, Japan, Syria, and Turkey, shall, at the time of arrival at the port of first arrival, be accompanied by a phytosanitary certificate of inspection, containing an accurate additional declaration that plum pox (=Sharka) potyvirus does not occur in the country in which the seeds were produced. The importation of seeds of Prunus spp. susceptible to plum pox (=Sharka) potyvirus (species other than P. avium, P. cerasus, P. effusa, P. laurocerasus, P. mahaleb, P. padus, P. sargentii, P. serotina, P. serrula, P. serrulata, P. subhirtella, P. yedoensis, and P. virginiana) from Belgium, Canada, France, Germany, Great Britain, and the Netherlands is authorized subject to the conditions of paragraph (b)(4)(i) of this section. The importation of seeds of Prunus spp. susceptible to plum pox (=Sharka) potyvirus (species other than P. avium, P. cerasus, P. effusa, P. laurocerasus, P. mahaleb, P. padus, P. sargentii, P. serotina, P. serrula, P. serrulata, P. subhirtella, P. yedoensis, and P. virginiana) from all other countries in Europe, as well as Argentina, Chile, Cyprus, Japan, Syria, and Turkey, is prohibited.

(5) List of pathogens:

(i) Monilinia fructigena (Aderh. & Ruhl.) Honey (Brown rot of fruit).

(ii) Guignardia piricola (Nose) Yamomoto (Leaf, branch, and fruit disease).

(iii) Apple proliferation phytoplasma.

(iv) Pear blister canker apscaviroid.

(v) Pear bud drop virus.

(vi) Diaporthe mali Bres. (Leaf, branch, and fruit fungus).

(vii) Apple green crinkle agent (Apple false sting virus).

(viii) Apple chat fruit agent (Apple small fruit).

(ix) Plum pox (=Sharka) potyvirus and its strains.

(x) Cherry leaf roll nepovirus (Elm mosaic virus, golden elderberry virus).

(xi) European cherry rusty mottle virus.

(xii) European stone fruit yellows phytoplasma (Apricot chlorotic leaf roll agent).

(xiii) Plum bark split trichovirus.

(xiv) Arabis mosaic nepovirus and its strains.

(xv) Raspberry ringspot nepovirus (European cherry rasp leaf) and its strains.

(xvi) Tomato blackring nepovirus (Myrobalan latent ringspot, peach shoot stunting) and its strains.

(xvii) Strawberry latent ringspot sadwavirus (Peach willow leaf rosette, Court noue) and its strains.

(xviii) Quince sooty ringspot agent.

(xix) Quince yellow blotch agent (Pear yellow blotch agent, Apple rubbery wood phytoplasma).

(xx) Quince stunt agent.

(xxi) Gymnosporangium asiaticum Miyabe ex. Yamada (Rust).

(xxii) Valsa mali Miyabe and Yamada ex. Miura (Branch canker fungus).

(xxiii) Apple ringspot agent (Apple thumb mark, Thumb mark, Apple Henderson spot agent).

(xxiv) The following nematode transmitted viruses: Artichoke Italian latent virus, Grapevine Bulgarian latent virus, Grapevine fanleaf virus and its strains, and Hungarian chrome mosaic virus.

(xxv) Grapevine asteroid mosaic agent.

(xxvi) Grapevine Bratislava mosaic virus.

(xxvii) Grapevine chasselas latent agent.

(xxviii) Grapevine little leaf agent.

(xxix) Grapevine vein mosaic agent.

(xxx) Grapevine vein necrosis agent.

(xxxi) Flavescence-doree phytoplasma.

(xxxii) Black wood phytoplasma (bois-noir).

(xxxiii) Grapevine infectious necrosis bacterium.

(xxxiv) Xanthomonas ampelina Panagopoulas.

(xxxv) Peyronellaea glomerata Ciferri.

(xxxvi) Pseudopeziza tracheiphila Muller-Thur-gau.

(xxxvii) Rhacodiella vitis Sterenberg.

(xxxviii) Rosellinia necatrix Prill.

(xxxix) Septoria melanosa (Vialla and Ravav) Elenk.

(xl) Apple fruit crinkle apscaviroid.

(xli) Apple dimple fruit apscaviroid.

(xlii) Apple scar skin apscaviroid.

(xliii) Monilinia polystroma.

(xliv) Apricot pseudo-chlorotic leaf spot trichovirus.

(c) Any restricted article (except seeds) of Chrysanthemum spp. (chrysanthemum, includes Dendranthema spp.), Leucanthemella serotina, or Nipponathemum nipponicum, from a foreign place except Asia, Europe, South America, Australia, Mexico, New Zealand, Oceania (Melanesia, Micronesia, and Polynesia), Republic of South Africa, and Tunisia shall, at the time of arrival at the port of first arrival in the United States, be accompanied by a phytosanitary certificate of inspection. The phytosanitary certificate of inspection must contain a declaration that the article was grown in a greenhouse nursery and found by the national plant protection organization of the country in which the article was grown to be free of white rust of chrysanthemum (caused by the rust fungus Puccinia horiana P. Henn.) based on visual examination of parent stock, the articles for importation, and the greenhouse nursery in which the articles for importation and the parent stock were grown, once a month for 4 consecutive months immediately prior to importation. Such articles are also subject to the postentry quarantine requirements of § 319.37-7.

* * * * *

8. Section 319.37-6 is amended as follows:

a. In paragraph (a), in the table, by adding an entry for “Dioscorea spp. (yam) plants for planting, including, but not limited to, bulbs, minisetts, and yam-setts” in alphabetical order; and

b. By adding paragraph (e).

The additions read as follows:

§ 319.37-6 Specific treatment and other requirements.

(a) * * *

Seed/bulb | Country/locality | Pest(s) for which treatment is required
* * * * * * *
Dioscorea spp. (yam) plants for planting, including, but not limited to, bulbs, minisetts, and yam-setts | All countries, except as provided in paragraphs (e)(1) through (e)(3) of this section | A diversity of internal and external feeders, including but not limited to: Aspiditosis hartii (yam scale) and Palaeopus costicollis (yam weevil).
* * * * * * *

* * * * *

(e) Dioscorea spp. (yam) plants for planting, including, but not limited to, bulbs, minisetts, and yam-setts, may be imported into the United States without being treated in accordance with part 305 of this chapter if:

(1) They are imported from Japan.

(2) They are imported from the Dominican Republic into Puerto Rico.

(3) They are imported from the West Indies into the U.S. Virgin Islands.

9. Section 319.37-7 is amended as follows:

a. By removing the words “Postentry Quarantine Unit” wherever they occur and adding the words “National Postentry Quarantine Coordinator” in their place;

b. In paragraph (a)(3), in the table, by revising the entries for “Acer spp. (maple)”, “Chrysanthemum spp. (chrysanthemum, includes Dendranthema spp.) meeting the conditions in § 319.37-5(c)”, “Leucanthemella serotina”, “Malus spp. (apple, crabapple) meeting the conditions for importation in § 319.37-5(b)”, “Nipponanthemum nipponicum”, and “Prunus spp. (almond, apricot, cherry, cherry laurel, English laurel, nectarine, peach, plum, prune) meeting the conditions for importation in § 319.37-5(b)”;

c. In paragraph (a)(3), in the table, in the entry for “Dianthus spp. (carnation, sweet-william)”, by adding the words “and the Netherlands” after the words “Great Britain”;

d. In paragraph (c)(1)(i), by removing the words “, except the District of Columbia, Guam, Hawaii, Kansas, and the Northern Mariana Islands”;

e. In paragraph (d)(1), by removing the words “Building 580, BARC-East, Beltsville, MD 20705” and adding the words “4700 River Road, Unit 133 Riverdale, MD 20737-1236” in their place; and

f. By adding paragraph (d)(8).

The revisions and addition read as follows:

§ 319.37-7 Postentry quarantine.

(a) * * *

(3) * * *

Restricted Article (excluding seeds) | Foreign Country(ies) or Locality(ies) from which imported
* * * * * * *
Acer spp. (maple) | All except Canada, Europe (except the Netherlands in accordance with § 319.37-5(m)), and Japan.
* * * * * * *
Chrysanthemum spp. (chrysanthemum), includes Dendranthema spp.), meeting the conditions for importation in § 319.37-5 | All except Asia, Europe, South America, Australia, Mexico, New Zealand, Oceania (Melanesia, Micronesia, and Polynesia), Republic of South Africa, and Tunisia.
* * * * * * *
Leucanthemella serotina meeting the conditions for importation in § 319.37-5 | All except Asia, Europe, South America, Australia, Mexico, New Zealand, Oceania (Melanesia, Micronesia, and Polynesia), Republic of South Africa, and Tunisia.
* * * * * * *
Malus spp. (apple, crabapple) meeting the conditions for importation in § 319.37-5(b) | All countries listed in § 319.37-5(b).
* * * * * * *
Nipponathemum nipponicum meeting the conditions for importation in § 319.37-5 | All except Asia, Europe, South America, Australia, Mexico, New Zealand, Oceania (Melanesia, Micronesia, and Polynesia), Republic of South Africa, and Tunisia.
* * * * * * *
Prunus spp. meeting the conditions for importation in § 319.37-5(b) | The Netherlands.
* * * * * * *

* * * * *

(d) * * *

(8) To keep the article under postentry quarantine conditions until the National Postentry Quarantine Coordinator issues a written release for the article.

* * * * *

§ 319.37-8 [Amended]

10. In § 319.37-8, paragraph (b)(2) is amended by removing the words “Newfoundland or from that portion of the Municipality of Central Saanich in the Province of British Columbia east of the West Saanich Road” and adding the words “all areas of Canada regulated by the national plant protection organization of Canada for potato cyst nematode” in their place.

11. In § 319.37-10, paragraph (c) is revised to read as follows:

§ 319.37-10 Marking and identity.

* * * * *

(c) Any restricted article for importation (by mail or otherwise), at the time of importation or offer for importation into the United States shall be accompanied by an invoice or packing list indicating the scientific names of the articles, at least to the level of genus, and the quantity of plants for planting in the shipment. Quantity must be expressed in the number of plant units, or in the case of seeds, by weight in grams or kilograms. Finally, when the regulations in this subpart place restrictions on individual species or cultivars within a genus, the invoice or packing list must also identify the species or cultivar of the articles.

* * * * *

§ 319.37-11 [Amended]

12. Section 319.37-11 is amended by adding the words “that must be accompanied by a permit in accordance with § 319.37-3(a)(1) through (11)” after the words “restricted article”.

PART 361—IMPORTATION OF SEED AND SCREENINGS UNDER THE FEDERAL SEED ACT

13. The authority citation for part 361 continues to read as follows:

Authority: 7 U.S.C. 1581-1610; 7 CFR 2.22, 2.80, and 371.3.

§ 361.2 [Amended]

14. In § 361.2, paragraph (d) is amended by adding the words “and in addition to the restrictions of § 319.37-3(a)(7),” before the words “coated or pelleted seed”, and by adding the words “, or seed that is embedded in a substrate that obscures visibility” after the words “coated or pelleted seed”.

Done in Washington, DC, this 5th day of December 2014.
Kevin Shea,
Administrator, Animal and Plant Health Inspection Service.

[FR Doc. 2014-29114 Filed 12-15-14; 8:45 am]

BILLING CODE 3410-34-P